DEPARTMENT OF ENERGY

Federal Energy Regulatory Commission

Combined Notice of Filings #1

March 5, 2008.

Take notice that the Commission has received the following Natural Gas Pipeline Rate and Refund Report filings:

Docket Numbers: RP97-81-046.

Applicants: Kinder Morgan Interstate Gas Trans. LLC.

Description: Kinder Morgan Interstate Gas Transmission LLC submits Twentieth Revised Sheet 4G.01 of its FERC Gas Tariff, Fourth Revised Volume 1-A.

Filed Date: 02/29/2008.

Accession Number: 20080304-0036.

Comment Date: 5 p.m. Eastern Time on Wednesday, March 12, 2008.

Docket Numbers: RP99-176-154.

Applicants: Natural Gas Pipeline Company of America.

Description: Natural Gas Pipeline Company of America submits Amendments to the Firm Transportation and Storage Negotiated Rate Agreement and to the related Transportation Rate Schedule FTS Agreement etc under RP99-176.

Filed Date: 02/29/2008.

Accession Number: 20080304-0034.

Comment Date: 5 p.m. Eastern Time on Wednesday, March 12, 2008.

Docket Numbers: RP99-176-155.

Applicants: Natural Gas Pipeline Company of America.

Description: Natural Gas Pipeline Company of America LLC submits Second Revised Sheet 26Q et al. to its FERC Gas Tariff, Six Revised Volume 1, to be effective April 1, 2008.

Filed Date: 03/03/2008.

Accession Number: 20080304-0272.

Comment Date: 5 p.m. Eastern Time on Monday, March 17, 2008.

Docket Numbers: RP02-361-068.

Applicants: Gulfstream Natural Gas System, L.L.C.

Description: Gulfstream Natural Gas System, LLC submits Original Sheet 8.02h to its FERC Gas Tariff, Original Volume 1, reflecting an effective date of March 1, 2008.

Filed Date: 03/03/2008.

Accession Number: 20080304-0240.

Comment Date: 5 p.m. Eastern Time on Monday, March 17, 2008.

Docket Numbers: RP07-120-002, RP07-145-001.

Applicants: Stingray Pipeline Company, L.L.C.

Description: Stingray Pipeline Company, LLC submits revised agreements in compliance with the Commission's Order issued on November 29, 2007.

Filed Date: 02/29/2008.

Accession Number: 20080304-0033.

Comment Date: 5 p.m. Eastern Time on Wednesday, March 12, 2008.

Docket Numbers: RP08-237-000.

Applicants: Southwest Gas Storage Company.

Description: Southwest Gas Storage Company submits Twenty-First Revised Sheet No. 5, to its FERC Gas Tariff, First Revised Volume 1, to become effective April 1, 2008.

Filed Date: 02/29/2008.

Accession Number: 20080303-0120.

Comment Date: 5 p.m. Eastern Time on Wednesday, March 12, 2008.

Docket Numbers: RP08-238-000.

Applicants: ANR Pipeline Company.

Description: ANR Pipeline Co submits its Twenty-Fifth Revised Sheet 19 et al. to its FERC Gas Tariff, Second Revised Volume 1, to become effective April 1, 2008.

Filed Date: 02/29/2008.

Accession Number: 20080304-0153.

Comment Date: 5 p.m. Eastern Time on Wednesday, March 12, 2008.

Docket Numbers: RP08-239-000.

Applicants: TransColorado Gas Transmission Company L.

Description: TransColorado Gas Transmission Company LLC submits its annual Fuel Gas Reimbursement Percentage Report for the year ended 12/31/07.

Filed Date: 02/29/2008.

Accession Number: 20080304-0023.

Comment Date: 5 p.m. Eastern Time on Wednesday, March 12, 2008.

Docket Numbers: RP08-240-000.

Applicants: ANR Pipeline Company.

Description: ANR Pipeline Company submits Original Sheet 10A et al. to its FERC Gas Tariff, Second Revised Volume 1, to become effective April 1, 2008.

Filed Date: 02/29/2008.

Accession Number: 20080304-0022.

Comment Date: 5 p.m. Eastern Time on Wednesday, March 12, 2008.

Docket Numbers: RP08-241-000.

Applicants: TransColorado Gas Transmission Company L.

Description: TransColorado Gas Transmission Company LLC submits First Revised Sheet 279 to its FERC Gas Tariff, Second Revised Volume 1, to become effective April 1, 2008.

Filed Date: 02/29/2008.

Accession Number: 20080304-0030.

Comment Date: 5 p.m. Eastern Time on Wednesday, March 12, 2008.

Docket Numbers: RP08-242-000.

Applicants: Rockies Express Pipeline LLC.

Description: Rockies Express Pipeline LLC submits its FL&U Percentage Adjustment Report for the year ended 12/31/07.

Filed Date: 02/29/2008.

Accession Number: 20080304-0029.

Comment Date: 5 p.m. Eastern Time on Wednesday, March 12, 2008.

Docket Numbers: RP08-243-000.

Applicants: Trunkline Gas Company, LLC.

Description: Trunkline Gas Company LLC submits Sixteenth Revised Sheet 10 et al. to its FERC Gas Tariff, Third Revised Volume 1, to become effective April 1, 2008.

Filed Date: 02/29/2008.

Accession Number: 20080304-0028.

Comment Date: 5 p.m. Eastern Time on Wednesday, March 12, 2008.

Docket Numbers: RP08-244-000.

Applicants: Columbia Gas Transmission Corporation.

Description: Columbia Gas Transmission Corporation submits Eighty-Sixth Revised Sheet 25 et al. to its FERC Gas Tariff, Second Revised Volume 1, to become effective April 1, 2008.

Filed Date: 02/29/2008.

Accession Number: 20080304-0027.

Comment Date: 5 p.m. Eastern Time on Wednesday, March 12, 2008.

Docket Numbers: RP08-245-000.

Applicants: Central Kentucky Transmission Company.

Description: Central Kentucky Transmission Company submits Fifth Revised Sheet 6 to its FERC Gas Tariff, Original Volume 1, to become effective April 1, 2008.

Filed Date: 02/29/2008.

Accession Number: 20080304-0026.

Comment Date: 5 p.m. Eastern Time on Wednesday, March 12, 2008.

Docket Numbers: RP08-246-000.

Applicants: Columbia Gas Transmission Corporation.

Description: Columbia Gas Transmission Corporation submits Eighteenth Revised Sheet 44 to its FERC Gas Tariff, Second Revised Volume 1, to become effective April 1, 2008.

Filed Date: 02/29/2008.

Accession Number: 20080304-0025.

Comment Date: 5 p.m. Eastern Time on Wednesday, March 12, 2008.

Docket Numbers: RP08-247-000.

Applicants: Ozark Gas Transmission, L.L.C.

Description: Ozark Gas Transmission LLC submits Seventh Revised Sheet 13 et al. to its FERC Gas Tariff, Original Volume 1, to become effective April 1, 2008.

Filed Date: 02/29/2008.

Accession Number: 20080304-0024.

Comment Date: 5 p.m. Eastern Time on Wednesday, March 12, 2008.

Docket Numbers: RP08-248-000.

Applicants: Quest Pipelines (KPC).

Description: Quest Pipelines (KPC) submits its First Revised Sheet 21 et al. to its FERC Gas Tariff, Second Revised Volume 1, to become effective April 1, 2008.

Filed Date: 02/29/2008.

Accession Number: 20080304-0040.

Comment Date: 5 p.m. Eastern Time on Wednesday, March 12, 2008.

Docket Numbers: RP08-249-000.

Applicants: Bluewater Gas Storage, LLC.

Description: Bluewater Gas Storage, LLC submits its First Revised Sheet 1 et al. to its FERC Gas Tariff, Original Volume 1, to become effective April 1, 2008.

Filed Date: 02/29/2008.

Accession Number: 20080304-0039.

Comment Date: 5 p.m. Eastern Time on Wednesday, March 12, 2008.

Docket Numbers: RP08-250-000.

Applicants: Transcontinental Gas Pipe Line Corp.

Description: Transcontinental Gas Pipe Line Corp submits its Twenty-Eighth Revised Sheet 29 et al. to its FERC Gas Tariff, Third Revised Volume 1, to become effective April 1, 2008.

Filed Date: 02/29/2008.

Accession Number: 20080304-0038.

Comment Date: 5 p.m. Eastern Time on Wednesday, March 12, 2008.

Docket Numbers: RP08-251-000.

Applicants: Transcontinental Gas Pipe Line Corp.

Description: Transcontinental Gas Pipe Line Corporation submits Fifty-Second Revised Sheet 27 et al. to its FERC Gas Tariff, Third Revised Volume 1, to be effective April 1, 2008.

Filed Date: 02/29/2008.

Accession Number: 20080304-0037.

Comment Date: 5 p.m. Eastern Time on Wednesday, March 12, 2008.

Docket Numbers: RP08-252-000.

Applicants: Viking Gas Transmission Company.

Description: Viking Gas Transmission Co submits its Twenty-Second Revised Sheet 5B to its FERC Gas Tariff, First Revised Volume 1, to become effective April 1, 2008.

Filed Date: 02/29/2008.

Accession Number: 20080304-0041.

Comment Date: 5 p.m. Eastern Time on Wednesday, March 12, 2008.

Docket Numbers: RP08-253-000.

Applicants: Viking Gas Transmission Company.

Description: Viking Gas Transmission Company submits Thirteenth Revised Sheet 5C, to its FERC Gas Tariff, First Revised Volume 1, to become effective April 1, 2008.

Filed Date: 02/29/2008.

Accession Number: 20080304-0031.

Comment Date: 5 p.m. Eastern Time on Wednesday, March 12, 2008.

Docket Numbers: RP08-254-000.

Applicants: National Fuel Gas Supply Corporation.

Description: National Fuel Gas Supply Corporation submits 112th Revised Sheet 9 to its FERC Gas Tariff, Fourth Revised Volume 1, to become effective March 1, 2008 under RP08-254.

Filed Date: 02/29/2008.

Accession Number: 20080304-0032.

Comment Date: 5 p.m. Eastern Time on Wednesday, March 12, 2008.

Docket Numbers: RP08-255-000.

Applicants: Arcadia Gas Storage, LLC.

Description: Arcadia Gas Storage, LLC submits its advance notification of construction facilities.

Filed Date: 03/03/2008.

Accession Number: 20080304-0267.

Comment Date: 5 p.m. Eastern Time on Monday, March 17, 2008.

Docket Numbers: RP08-256-000.

Applicants: TransColorado Gas Transmission Company LLC.

Description: TransColorado Gas Transmission Co, LLC submits First Revised Sheet 1 et al. to its FERC Gas Tariff, Second Revised Volume 1, to become effective April 1, 2008.

Filed Date: 03/03/2008.

Accession Number: 20080304-0239.

Comment Date: 5 p.m. Eastern Time on Monday, March 17, 2008.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-4632 Filed 3-7-08; 8:45 am]

BILLING CODE 6717-01-P